ENVIRONMENTAL PROTECTION AGENCY

40 CFR Part 52

[EPA-R06-OAR-2018-0350; FRL-9979-54—Region 6]

Approval and Promulgation of Implementation Plans; Oklahoma; General SIP Updates

AGENCY: Environmental Protection Agency (EPA).

ACTION: Proposed rule.

SUMMARY: Pursuant to the Federal Clean Air Act (CAA or the Act), the Environmental Protection Agency (EPA) is proposing to approve revisions to the State Implementation Plan (SIP) for Oklahoma submitted by the State of Oklahoma designee with a letter dated February 14, 2017. The submittal covers updates to the Oklahoma SIP, as contained in annual SIP updates for 2013, 2014, 2015, and 2016, and incorporates the latest changes to EPA regulations. This action will address the revisions submitted to the Oklahoma SIP pertaining to incorporation by reference of federal requirements and emission inventory reporting requirements.

DATES: Written comments must be received on or before August 6, 2018.

ADDRESSES: Submit your comments, identified by Docket No. EPA-R06-OAR-2018-0350, at http://www.regulations.gov or via email to wiley.adina@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Adina Wiley, 214-665-2115, wiley.adina@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Adina Wiley, (214) 665-2115, wiley.adina@epa.gov. To inspect the hard copy materials, please schedule an appointment with Ms. Adina Wiley or Mr. Bill Deese at (214) 665-7253.

SUPPLEMENTARY INFORMATION: Throughout this document “we,” “us,” or “our” refer to EPA.

I. Background

Section 110 of the Act requires states to develop air pollution regulations and control strategies to ensure that air quality meets the EPA's National Ambient Air Quality Standards. These ambient standards are established under section 109 of the Act and they currently address six criteria pollutants: Carbon monoxide, nitrogen dioxide, ozone, lead, particulate matter, and sulfur dioxide. The state's air regulations are contained in its SIP, which is basically a clean air plan. Each state is responsible for developing SIPs to demonstrate how the NAAQS will be achieved, maintained, and enforced. The SIP must be submitted to EPA for approval and any changes a state makes to the approved SIP also must be submitted to the EPA for approval.

The Oklahoma Secretary of Energy and Environment submitted revisions for approval by EPA on February 14, 2017. The submittal addresses air pollution regulations and control strategies adopted and codified in the Oklahoma Administrative Code (OAC) under Title 252 (DEQ), Chapter 100 (Air Pollution Control), Subchapter 2 and Appendix Q—Incorporation by Reference; Subchapter 5—Registration, Emission Inventory and Annual Operating Fees; Subchapter 13—Open Burning; Subchapter 17—Incinerators; Subchapter 25—Visible Emissions and Particulates; Subchapter 31—Control of Emission of Sulfur Compounds; Appendix E—Primary Ambient Air Quality Standards; and Appendix F—Secondary Ambient Air Quality Standards. The EPA has proposed separate action to address the February 14, 2017, submission of revisions to OAC 252:100, Subchapters 13, 17, 25, 31, and Appendices E and F. See the rulemaking docket EPA-R06-OAR-2017-0145. In this action we are only addressing the February 14, 2017, submitted revisions to OAC 252:100, Subchapters 2, 5, and Appendix Q.

II. The EPA's Evaluation

The accompanying Technical Support Document for this action includes a detailed analysis of the submitted revisions to the Oklahoma SIP. With the exception of Subchapter 5 discussed below, the revisions are minor or non-substantive in nature and do not change the intent of the originally approved SIP requirements. Our analysis indicates that the SIP revision package submitted on February 14, 2017, has been developed in accordance with the CAA and the State provided reasonable notice and public hearing. The revisions to OAC 252:100, Subchapter 2 and Appendix Q update the incorporation by reference dates so that the Oklahoma SIP maintains consistency with federal requirements. The revisions to OAC 252:100, Subchapter 5 substantively revise the emission inventory reporting requirements. The ODEQ is revising the reporting schedule for sources with permits by rule to align with the Three-Year Cycle Inventory of the National Emission Inventory specified in 40 CFR 51.30(b). ODEQ is clarifying that permit exempt and de minimis facilities as defined in OAC 252:100, Subchapter 7 are not subject to emission inventory reporting requirements unless annual emissions from the facility exceed the federal emission thresholds listed in 40 CFR part 51, Appendix A. The ODEQ is also providing the ability for the Director to require emission inventory reporting from any facility with the potential to emit any regulated air pollutant if the data is needed for program planning or compliance with State or Federal rules, regulations, standards or requirements. The EPA has determined it is appropriate to approve revisions to the Oklahoma SIP because these revisions maintain consistency with federal requirements and will not interfere with any applicable requirement concerning attainment and reasonable further progress or any other applicable CAA requirements.

III. Proposed Action

We are proposing to approve revisions to the Oklahoma SIP that revise the incorporation by reference dates for federal requirements and update the emission inventory reporting requirements. We have determined that the revisions submitted on February 14, 2017, were developed in accordance with the CAA and EPA's regulations. Therefore, under section 110 of the Act, the EPA proposes approval of the following revisions to the Oklahoma SIP:

• Revisions to OAC 252:100-2-3 and Appendix Q adopted on April 25, 2013; effective July 1, 2013;

• Revisions to OAC 252:100-2-3 and Appendix Q adopted on June 19, 2014; effective September 12, 2014;

• Revisions to OAC 252:100-2-3 and Appendix Q adopted on June 8, 2015; effective September 15, 2015;

• Revisions to OAC 252:100-2-3 and Appendix Q adopted on June 9, 2016; effective September 15, 2016;

• Revisions to OAC 252:100-5-2 adopted on June 19, 2014; effective September 12, 2014;

• Revisions to OAC 252:100-5-2.1 adopted on June 19, 2014; effective September 12, 2014;

• Revisions to OAC 252:100-5-2.1 adopted June 9, 2016; effective September 15, 2016; and

• Revisions to OAC 252:100-5-3 adopted on June 19, 2014; effective September 12, 2014.

IV. Incorporation by Reference

In this action, we are proposing to include in a final rule regulatory text that includes incorporation by reference. In accordance with the requirements of 1 CFR 51.5, we are proposing to incorporate by reference revisions to the Oklahoma regulations as described in the Proposed Action section above. We have made, and will continue to make, these documents generally available electronically through www.regulations.gov and in hard copy at the EPA Region 6 office (please contact Adina Wiley for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Ozone, Particulate matter, Reporting and recordkeeping requirements, Sulfur oxides, Volatile organic compounds.

Authority: 42 U.S.C. 7401 et seq.

Dated: June 28, 2018.
Anne Idsal,
Regional Administrator, Region 6.

[FR Doc. 2018-14493 Filed 7-5-18; 8:45 am]

BILLING CODE 6560-50-P